EXPORT-IMPORT BANK

[Public Notice: EIB-2021-0005]

Application for Final Commitment for a Long-Term Loan or Financial Guarantee in Excess of $100 Million: AP089391XX

AGENCY: Export-Import Bank of the United States.

ACTION: Notice.

SUMMARY: This Notice is to inform the public, in accordance with Section 3(c)(10) of the Export-Import Bank Act of 1945, as amended (12 U.S.C. 635a(c)(10)), that the Export-Import Bank of the United States (“EXIM”) has received an application for final commitment for a long-term loan or financial guarantee in excess of $100 million. Comments received within the comment period specified below will be presented to the EXIM Board of Directors prior to final action on this Transaction.

Reference: AP089391XX.

Purpose and use:

Brief description of the purpose of the transaction:To support the export of U.S.-manufactured commercial aircraft to Panama.

Brief non-proprietary description of the anticipated use of the items being exported: To be used for passenger air transport between various countries in the Americas.

To the extent that EXIM is reasonably aware, the item(s) being exported are not expected to produce exports or provide services in competition with the exportation of goods or provision of services by a United States industry.

Parties:

Principal Supplier: The Boeing Company.

Obligor: Compania Panamena de Aviacion, S.A., Panama.

Guarantor(s): Copa Holdings, S.A; AeroRepublica, Colombia; Oval Financing Leasing, Ltd., British Virgin Islands; and La Nueva Aerolinea, S.A., Panama.

Description of items being exported: Boeing commercial jet aircraft.

Information on decision: Information on the final decision for this transaction will be available in the “Summary Minutes of Meetings of Board of Directors” on http://exim.gov/newsandevents/boardmeetings/board/.

Confidential information: Please note that this notice does not include confidential or proprietary business information; information which, if disclosed, would violate the Trade Secrets Act; or information which would jeopardize jobs in the United States by supplying information that competitors could use to compete with companies in the United States.

DATES: Comments must be received on or before October 19, 2021 to be assured of consideration before final consideration of the transaction by the Board of Directors of EXIM.

ADDRESSES: Comments may be submitted through Regulations.gov at www.regulations.gov. To submit a comment, enter EIB-2021-0005 under the heading “Enter Keyword or ID” and select Search. Follow the instructions provided at the Submit a Comment screen. Please include your name, company name (if any) and EIB-2021-0005 on any attached document.

Joyce B. Stone,
Assistant Corporate Secretary.

[FR Doc. 2021-20781 Filed 9-23-21; 8:45 am]

BILLING CODE 6690-01-P